NUCLEAR REGULATORY COMMISSION

[Docket Nos. 50-413 and 50-414]

Duke Energy Corporation, et al.; Catawba Nuclear Station, Units 1 and 2; Notice of Issuance of Amendment to Facility Operating License and Final Determination of No Significant Hazards Consideration Renewed Facility Operating License Nos. NPF-35 and NPF-52, Amendment Nos. 220 and 215

The Nuclear Regulatory Commission (Commission) has issued Amendment No. 220 to Renewed Facility Operating License No. NPF-35 and Amendment No. 215 to Renewed Facility Operating License No. NPF-52, issued to Duke Energy Corporation, et al. (Duke, the licensee), which revised the Technical Specifications (TS) for operation of the Catawba Nuclear Station (Catawba), Units 1 and 2, located in York County, South Carolina. The amendment is effective as of the date of issuance.

The amendment modifies the TS to permit the usage of up to four mixed oxide (MOX) lead test assemblies (LTAs). Specifically, the amendment consists of: (1) A revision to TS 3.7.16 to permit storage of the MOX LTAs in the spent fuel pool; (2) a revision to TS 4.2, “Reactor Core” to include the four MOX LTAs using M5 fuel rod cladding; (3) TS 4.3, “Fuel Storage,” to reflect the enrichment of the MOX LTAs; and (4) a revision to TS 5.6.5 to add two supporting methodologies for the MOX LTAs. The application for the amendment complies with the standards and requirements of the Atomic Energy Act of 1954, as amended (the Act), and the Commission's rules and regulations. The Commission has made appropriate findings as required by the Act and the Commission's rules and regulations in 10 CFR chapter I, which are set forth in the license amendment.

A Notice of Consideration of Issuance of Amendment to Facility Operating License and Opportunity for a Hearing in connection with this action was published in the Federal Register on July 25, 2003 (68 FR 44107). A request for a hearing was filed on August 21 and 25, 2003, by the Nuclear Information and Resources Service (NIRS) and the Blue Ridge Environmental Defense League (BREDL), respectively. A Notice of Opportunity to Comment and Proposed No Significant Hazards Consideration Determination in connection with this action was published in the Federal Register on July 12, 2004 (69 FR 41852).

On July 14 and 15, 2004, the Atomic Safety and Licensing Board (ASLB) held a hearing on a single admitted safety-related contention by BREDL. All of NIRS's contentions were rejected and NIRS was not admitted as a party to the proceeding. The admitted contention was related to the adequacy of the loss-of-coolant accident analyses performed to support the use of the MOX LTAs. On December 22, 2004, the ASLB issued a Partial Initial Decision with respect to this matter finding that there is reasonable assurance that operation of Catawba with the four MOX LTAs will not endanger the health and safety of the public.

BREDL submitted its security-related safety contentions on March 3, 2004. An ASLB hearing on a single physical security-related contention, as admitted by the ASLB, was held January 11-14, 2005. This contention was related to the adequacy of the provisions undertaken by Duke to provide protection of the MOX LTAs. Findings and reply findings of fact and conclusions of law were filed in February 2005. An ASLB decision on the security contention is pending.

Under its regulations, the Commission may issue and make an amendment immediately effective, notwithstanding the pendency before it of a request for a hearing from any person, in advance of the holding or completion of any required hearing, where it has determined that no significant hazards considerations are involved.

The Commission has applied the standards of Title 10 of the Code of Federal Regulations, Section 50.92 and has made a final determination that the amendment involves no significant hazards considerations. The basis for this determination is contained in a Safety Evaluation and three Supplements to that Safety Evaluation related to this action. Accordingly, as described above, the amendment has been issued and made immediately effective and any further hearing will be held after issuance.

The Commission has prepared an Environmental Assessment and one Supplement to the Environmental Assessment related to the action and has determined not to prepare an environmental impact statement. Based upon the environmental assessment and its supplement, the Commission has concluded that the issuance of the amendment will not have a significant effect on the quality of the human environment (69 FR 51112 and 70 FR 8849).

For further details with respect to the action see (1) the application for amendment dated February 27, 2003, as supplemented by letters dated September 15, September 23, October 1 (two letters), October 3 (two letters), November 3, November 4, December 10, 2003, and February 2, (two letters), March 1 (three letters), March 9 (two letters), March 16 (two letters), March 26, March 31, April 13, April 16, May 13, June 17, August 31, September 20, October 4, October 29 and December 10, 2004, (2) Amendment Nos. 220 and 215 to License Nos. NPF-35 and NPF-52, respectively, (3) the Commission's related Safety Evaluation and its three Supplements dated April 5, May 5, July 27, 2004, and March 3, 2005, respectively, and (4) the Commission's Environmental Assessment and its supplement (69 FR 51112 and 70 FR 8849, respectively). All of these items are available for public inspection at the Commission's Public Document Room, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, (301) 415-4737, or by e-mail to pdr@nrc.gov.

Dated at Rockville, Maryland, this 3rd day of March 2005.
For the Nuclear Regulatory Commission.
John A. Nakoski,
Chief, Section 1, Project Directorate II, Division of Licensing Project Management, Office of Nuclear Reactor Regulation.

[FR Doc. 05-4547 Filed 3-8-05; 8:45 am]

BILLING CODE 7590-01-P